DEPARTMENT OF COMMERCE

Census Bureau

Agency Information Collection Activities; Submission to the Office of Management and Budget (OMB) for Review and Approval; Comment Request; Collection of State/Local Administrative Records and Third-Party Data

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 8, 2024 during a 60-day comment period. This notice allows for an additional 30 days for public comments.

Agency: U.S. Census Bureau, Department of Commerce.

Title: Collection of State/Local Administrative Records and Third-Party Data.

OMB Control Number: 0607-XXXX.

Form Number(s): None.

Type of Request: Regular submission, New Information Collection Request.

Number of Respondents: 80.

Average Hours per Response: 75.

Burden Hours: 6,000.

Needs and Uses: The Census Bureau uses state and local administrative records data linked with other survey and census records, including but not limited to, data from the Survey of Income and Program Participation (SIPP), the Current Population Survey (CPS) and the American Community Survey (ACS) to conduct research and improve operations.

The Census Bureau encourages the District of Columbia, all 50 states, and local municipalities to share administrative records data generally associated with, but not limited to: nutrition and food assistance programs, including the Supplemental Nutrition Assistance Program (SNAP) and the Special Supplemental Nutrition Program for Women, Infants and Children (WIC); and welfare programs, including child care subsidy; household self-sufficiency programs, including low income energy assistance programs and Temporary Assistance for Needy Families (TANF).

Data sharing and analysis of linked files are solely for statistical purposes, not for program enforcement. All administrative records data are and will remain confidential under Title 13, United States Code (U.S.C.), Section 9, whether in their original form or when comingled or linked.

The Census Bureau will use data from businesses for research, censuses, and surveys operations. This data will be collected from businesses through agreements or contracts. Third-party targeted entities for this acquisition will include cross sector industries such as manufacturing, information services, healthcare, supply chain, and retail.

The U.S. Census Bureau efforts to collect these data include integrating and linking the data with Census Bureau data from current surveys and censuses to improve efficiency and accuracy of Census data collections, including 2030 Census Operations, and improve measures of the population and economy. In 2030, administrative records and third-party data could potentially be used to enhance non-ID address processing, imputation, in-office enumeration, contact strategies, and post-processing.

The Census Bureau benefits from these efforts by improving data quality, survey frames, developing model-based edits and allocations, and studies of program participation and data quality over time. Collaborating agencies have benefited through access to reports and tabulations to enhance information about participation in assistance programs.

The Census Bureau is obligated by law to use existing information that has already been collected by other government agencies, whenever possible, instead of asking for such information directly from the public, provided that the existing information is consistent with the kind, timeliness, scope, and quality of the statistics that the Census Bureau is authorized to produce.

The authority for the Census Bureau to acquire state administrative records data on nutrition assistance is 13 U.S.C. 6. Additionally, the state agencies may provide SNAP and Special Supplemental Nutrition Program for Women, Infants, and Children (WIC) data to the Census Bureau under 7 U.S.C. 2026 and 42 U.S.C. 1786 and implementing regulations at 7 CFR part 246, respectively. Further, state agencies may provide TANF data to the Census Bureau under the Public Health and Welfare Act, 42 U.S.C. 613 and Section 1137 of the Social Security Act, 42 U.S.C. 1320b-7.

The primary uses include:

• Improve survey coverage

• Evaluate, edit, and analyze census and survey data

• Conduct new policy-relevant cross-sectional and longitudinal analyses

• Create new lower-cost data products without incurring additional respondent burden

The Census Bureau will link administrative records and third-party data with data from censuses and surveys at the Census Bureau, including but not limited to data from the SIPP, CPS, ACS, and economic programs.

Linking records across programs, across states, or over time is accomplished using a unique linkage identifier called a Protected Identification Key (PIK). Processing to assign a PIK to each person record involves matching based on combinations of name, address, sex, date of birth, and Social Security Number (SSN) data, as available. For example, the Census Bureau requests the following data elements from the state agencies:

a. Case unit identifiers,

b. Active Participant definitions,

c. Complete monthly case unit address history (residence, mailing),

d. Benefit month,

e. Monthly Benefits data (any of the available: benefits received date, benefits amount issued/received, and benefit amount redeemed),

f. Income reporting requirement (simplified reporting, change reporting, etc.),

g. Gross income (monthly),

h. Net income (monthly),

i. Eligibility and denial information,

j. Household size,

k. Identifiers for individuals in case units, and

l. The following information on individuals in a case unit:

i. Name

ii. Social Security Number

iii. Case unit/main contact phone number

iv. Unique individual identifier

v. Benefit month

vi. Case unit identifier

vii. Program data type

viii. Active participant definitions

ix. Relationship to primary recipient

x. History of membership in case unit

xi. Race

xii. Hispanic origin/Ethnicity

xiii. Sex

xiv. Date of birth

xv. Gross income (monthly)

xvi. Net income (monthly)

xvii. Monthly income source (earnings, TANF, SSI, SSA, UI, general assistance, other)

xviii. Education

xix. Employment

The Census Bureau will use nutrition assistance data to improve surveys and census authorized by Title 13 of the U.S.C. The Census Bureau will evaluate the quality of the linked data to: improve efficiency and accuracy in our data collections; improve measures of population and economy; evaluate and improve data linking software and techniques; improve data quality and estimates; improve Census Bureau household survey coverage and gain a greater understanding of data quality collected in Census Bureau household surveys on program participation, household composition and income; and provide a basis for improving Census Bureau demographic and economic survey program participation questions.

The Census Bureau may provide tabulated data to the participating agencies that may use these tabulations for research related to and evaluation of state programs, such as rates of enrollment in and demographic characteristics of participants in state assistance programs.

Data sharing and analysis of linked files are solely for statistical purposes, not for program enforcement or the determination of individual benefits. All administrative records and third-party data are and will remain confidential, whether in their original form or when comingled or linked.

Frequency: On occasion.

Respondent's Obligation: Voluntary.

Legal Authority: 13 U.S.C. 6.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-13164 Filed 6-13-24; 8:45 am]

BILLING CODE 3510-07-P